DEPARTMENT OF COMMERCE

International Trade Administration

[A-475-824]

Stainless Steel Sheet and Strip in Coils from Italy: Notice of Amended Final Results of Antidumping Administrative Review

AGENCY: Import Administration, International Trade Administration, Department of Commerce.

ACTION: Amended final results of antidumping administrative review of stainless steel sheet and strip in coils from Italy.

EFFECTIVE DATE: March 11, 2003.

FOR FURTHER INFORMATION CONTACT: Stephen Bailey or Robert Bolling, Enforcement Group III, Import Administration, International Trade Administration, U.S. Department of Commerce, 1401 Constitution Avenue, NW., Washington, DC 20230; telephone: 202-482-1102, or 202-482-3434, respectively.

Amendment of Final Results

On February 10, 2003, the U.S. Department of Commerce (“Department”) published in the Federal Register the results of its administrative review of the antidumping duty order on stainless steel sheet and strip in coils (“SSSS”) from Italy. See Stainless Steel Sheet and Strip in Coils from Italy: Final Results of Antidumping Administrative Review, 68 FR 6719 (February 10, 2003) (“Final Results”).

On February 10, 2003, respondent ThyssenKrupp Acciai Speciali Terni S.p.A (“TKAST”) and ThyssenKrupp AST USA, Inc. (“TKASTUSA”) filed ministerial error allegations, pursuant to 19 CFR 351.224(c)(2). On February 11, 2003, petitioners timely filed rebuttal comments on the alleged ministerial errors.

As a result of our analysis of respondent's allegations, we are amending the Final Results in the antidumping review of SSSS from Italy.

Scope of the Review

For purposes of this administrative review, the products covered are certain stainless steel sheet and strip in coils. Stainless steel is an alloy steel containing, by weight, 1.2 percent or less of carbon and 10.5 percent or more of chromium, with or without other elements. The subject sheet and strip is a flat-rolled product in coils that is greater than 9.5 mm in width and less than 4.75 mm in thickness, and that is annealed or otherwise heat treated and pickled or otherwise descaled. The subject sheet and strip may also be further processed (e.g., cold-rolled, polished, aluminized, coated, etc.) provided that it maintains the specific dimensions of sheet and strip following such processing.

The merchandise subject to this review is currently classifiable in the Harmonized Tariff Schedule of the United States (“HTS”) at subheadings: 7219.13.0031, 7219.13.0051, 7219.13.0071, 7219.1300.81,¹ 7219.14.0030, 7219.14.0065, 7219.14.0090, 7219.32.0005, 7219.32.0020, 7219.32.0025, 7219.32.0035, 7219.32.0036, 7219.32.0038, 7219.32.0042, 7219.32.0044, 7219.33.0005, 7219.33.0020, 7219.33.0025, 7219.33.0035, 7219.33.0036, 7219.33.0038, 7219.33.0042, 7219.33.0044, 7219.34.0005, 7219.34.0020, 7219.34.0025, 7219.34.0030, 7219.34.0035, 7219.35.0005, 7219.35.0015, 7219.35.0030, 7219.35.0035, 7219.90.0010, 7219.90.0020, 7219.90.0025, 7219.90.0060, 7219.90.0080, 7220.12.1000, 7220.12.5000, 7220.20.1010, 7220.20.1015, 7220.20.1060, 7220.20.1080, 7220.20.6005, 7220.20.6010, 7220.20.6015, 7220.20.6060, 7220.20.6080, 7220.20.7005, 7220.20.7010, 7220.20.7015, 7220.20.7060, 7220.20.7080, 7220.20.8000, 7220.20.9030, 7220.20.9060, 7220.90.0010, 7220.90.0015, 7220.90.0060, and 7220.90.0080. Although the HTS subheadings are provided for convenience and Customs purposes, the Department's written description of the merchandise under review is dispositive.

¹ Due to changes to the HTS numbers in 2001, 7219.13.0030, 7219.13.0050, 7219.13.0070, and 7219.13.0080 are now 7219.13.0031, 7219.13.0051, 7219.13.0071, and 7219.13.0081, respectively.

Excluded from the scope of this review are the following: (1) Sheet and strip that is not annealed or otherwise heat treated and pickled or otherwise descaled, (2) sheet and strip that is cut to length, (3) plate (i.e., flat-rolled stainless steel products of a thickness of 4.75 mm or more), (4) flat wire (i.e., cold-rolled sections, with a prepared edge, rectangular in shape, of a width of not more than 9.5 mm), and (5) razor blade steel. Razor blade steel is a flat-rolled product of stainless steel, not further worked than cold-rolled (cold-reduced), in coils, of a width of not more than 23 mm and a thickness of 0.266 mm or less, containing, by weight, 12.5 to 14.5 percent chromium, and certified at the time of entry to be used in the manufacture of razor blades. See Chapter 72 of the HTS, “Additional U.S. Note” 1(d).

Flapper valve steel is also excluded from the scope of this review. This product is defined as stainless steel strip in coils containing, by weight, between 0.37 and 0.43 percent carbon, between 1.15 and 1.35 percent molybdenum, and between 0.20 and 0.80 percent manganese. This steel also contains, by weight, phosphorus of 0.025 percent or less, silicon of between 0.20 and 0.50 percent, and sulfur of 0.020 percent or less. The product is manufactured by means of vacuum arc remelting, with inclusion controls for sulphide of no more than 0.04 percent and for oxide of no more than 0.05 percent. Flapper valve steel has a tensile strength of between 210 and 300 ksi, yield strength of between 170 and 270 ksi, plus or minus 8 ksi, and a hardness (Hv) of between 460 and 590. Flapper valve steel is most commonly used to produce specialty flapper valves in compressors.

Also excluded is a product referred to as suspension foil, a specialty steel product used in the manufacture of suspension assemblies for computer disk drives. Suspension foil is described as 302/304 grade or 202 grade stainless steel of a thickness between 14 and 127 microns, with a thickness tolerance of plus-or-minus 2.01 microns, and surface glossiness of 200 to 700 percent Gs. Suspension foil must be supplied in coil widths of not more than 407 mm, and with a mass of 225 kg or less. Roll marks may only be visible on one side, with no scratches of measurable depth. The material must exhibit residual stresses of 2 mm maximum deflection, and flatness of 1.6 mm over 685 mm length.

Certain stainless steel foil for automotive catalytic converters is also excluded from the scope of this review. This stainless steel strip in coils is a specialty foil with a thickness of between 20 and 110 microns used to produce a metallic substrate with a honeycomb structure for use in automotive catalytic converters. The steel contains, by weight, carbon of no more than 0.030 percent, silicon of no more than 1.0 percent, manganese of no more than 1.0 percent, chromium of between 19 and 22 percent, aluminum of no less than 5.0 percent, phosphorus of no more than 0.045 percent, sulfur of no more than 0.03 percent, lanthanum of less than 0.002 or greater than 0.05 percent, and total rare earth elements of more than 0.06 percent, with the balance iron.

Permanent magnet iron-chromium-cobalt alloy stainless strip is also excluded from the scope of this order. This ductile stainless steel strip contains, by weight, 26 to 30 percent chromium, and 7 to 10 percent cobalt, with the remainder of iron, in widths 228.6 mm or less, and a thickness between 0.127 and 1.270 mm. It exhibits magnetic remanence between 9,000 and 12,000 gauss, and a coercivity of between 50 and 300 oersteds. This product is most commonly used in electronic sensors and is currently available under proprietary trade names such as “Arnokrome III.” ²

² “Arnokrome III” is a trademark of the Arnold Engineering Company.

Certain electrical resistance alloy steel is also excluded from the scope of this review. This product is defined as a non-magnetic stainless steel manufactured to American Society of Testing and Materials (“ASTM”) specification B344 and containing, by weight, 36 percent nickel, 18 percent chromium, and 46 percent iron, and is most notable for its resistance to high temperature corrosion. It has a melting point of 1390 degrees Celsius and displays a creep rupture limit of 4 kilograms per square millimeter at 1000 degrees Celsius. This steel is most commonly used in the production of heating ribbons for circuit breakers and industrial furnaces, and in rheostats for railway locomotives. The product is currently available under proprietary trade names such as “Gilphy 36.” ³

³ “Gilphy 36” is a trademark of Imphy, S.A.

Certain martensitic precipitation-hardenable stainless steel is also excluded from the scope of this order. This high-strength, ductile stainless steel product is designated under the Unified Numbering System (“UNS”) as S45500-grade steel, and contains, by weight, 11 to 13 percent chromium, and 7 to 10 percent nickel. Carbon, manganese, silicon and molybdenum each comprise, by weight, 0.05 percent or less, with phosphorus and sulfur each comprising, by weight, 0.03 percent or less. This steel has copper, niobium, and titanium added to achieve aging, and will exhibit yield strengths as high as 1700 Mpa and ultimate tensile strengths as high as 1750 Mpa after aging, with elongation percentages of 3 percent or less in 50 mm. It is generally provided in thicknesses between 0.635 and 0.787 mm, and in widths of 25.4 mm. This product is most commonly used in the manufacture of television tubes and is currently available under proprietary trade names such as “Durphynox 17.” ⁴

⁴ “Durphynox 17” is a trademark of Imphy, S.A.

Also excluded are three specialty stainless steels typically used in certain industrial blades and surgical and medical instruments. These include stainless steel strip in coils used in the production of textile cutting tools (e.g., carpet knives).⁵ This steel is similar to AISI grade 420 but containing, by weight, 0.5 to 0.7 percent of molybdenum. The steel also contains, by weight, carbon of between 1.0 and 1.1 percent, sulfur of 0.020 percent or less, and includes between 0.20 and 0.30 percent copper and between 0.20 and 0.50 percent cobalt. This steel is sold under proprietary names such as “GIN4 Mo.” ⁶ The second excluded stainless steel strip in coils is similar to AISI 420-J2 and contains, by weight, carbon of between 0.62 and 0.70 percent, silicon of between 0.20 and 0.50 percent, manganese of between 0.45 and 0.80 percent, phosphorus of no more than 0.025 percent and sulfur of no more than 0.020 percent. This steel has a carbide density on average of 100 carbide particles per 100 square microns. An example of this product is “GIN5” ⁷ steel. The third specialty steel has a chemical composition similar to AISI 420 F, with carbon of between 0.37 and 0.43 percent, molybdenum of between 1.15 and 1.35 percent, but lower manganese of between 0.20 and 0.80 percent, phosphorus of no more than 0.025 percent, silicon of between 0.20 and 0.50 percent, and sulfur of no more than 0.020 percent. This product is supplied with a hardness of more than Hv 500 guaranteed after customer processing, and is supplied as, for example, “GIN6.” ⁸

⁵ This list of uses is illustrative and provided for descriptive purposes only.

⁶ “GIN4 Mo” is the proprietary grade of Hitachi Metals America, Ltd.

⁷ “GIN5” is the proprietary grade of Hitachi Metals America, Ltd.

⁸ “GIN6” is the proprietary grade of Hitachi Metals America, Ltd.

Ministerial Errors

A ministerial error is defined in §351.224(f) of our regulations as “an error in addition, subtraction, or other arithmetic function, clerical error resulting from inaccurate copying, duplication, or the like, and any other similar type of unintentional error which the Secretary considers ministerial.” (19 CFR 351.224(f)) Section 351.224(e) of our regulations provides that we “will analyze any comments received and, if appropriate * * * correct any ministerial error by amending the final results* * * .” (19 CFR 351.224(f)) After reviewing interested parties' allegations we have determined, in accordance with 19 CFR 351.224, that the Final Results includes a ministerial error discussed below.

Comment 1: Entered Value

Respondent alleges that the Department reported an incorrect total value on page one of its Analysis for the Final Results of the Antidumping Duty Administrative Review of Stainless Steel Sheet and Strip in Coils from Italy—ThyssenKrupp Acciai Speciali Terni S.p.A (“TKAST”) (“Final Analysis Memorandum”) dated February 3, 2003. Respondent argues that the Department should have reported the sum of the values which appear on the page titled “Importer Specific Assessment Rates” in the Final Margin Program. See Final Margin Program at page 42.

Petitioners argue that the Department reported the correct value in the Final Analysis Memorandum. Petitioners maintain that the amount reported by the Department in the Final Analysis Memorandum reflects the total value of all of TKAST's U.S. sales of the subject merchandise based on the net U.S. prices as calculated in the margin program. Petitioners contend that the sum of the reported values does not reflect net U.S. prices or the dumping margins that were calculated by the Department.

Department's Position: We agree with petitioners. The value reported in the Department's Final Analysis Memorandum is the total net value of U.S. sales and is the basis for the Department's calculation of the weighted-average dumping margin for all of TKAST's U.S. sales. It is the Department's practice to report the net value of all of respondent's U.S. sales in our analysis memorandum. See Stainless Steel Sheet and Strip in Coils From Italy: Final Results of Antidumping Duty Administrative Review, 67 FR 1715 (January 14, 2002) and Analysis for the final results in the administrative review of the antidumping duty order on stainless steel sheet and strip in coils from Italy—Acciai Speciali Terni (“AST”) from Carrie Blozy to the File for the first administrative review covering the period January 1, 1999 through June 30, 2000. Therefore, we will not amend the total value amount reported in the Final Analysis Memorandum.

Comment 2: Indirect Selling Expenses incurred by Ken-Mac Metals, Inc. (“Ken-Mac”)

TKAST alleges that the Department mistakenly applied the revised indirect selling expenses associated with sales through Ken-Mac to all U.S. sales. TKAST argues that the revised indirect selling expenses associated with sales through Ken-Mac should only be applied to U.S. sales through Ken-Mac.

Petitioners did not provide rebuttal comments.

Department's Position: We agree with TKAST. Following the Preliminary Results, the Department recalculated Ken-Mac's indirect selling expenses to account for expenses related to selling agents determined by the Department to be employees of Ken-Mac. See Analysis of Comments Received Concerning Commissions for the Final Results of the Antidumping Duty Administrative Review of Stainless Steel Sheet and Strip in Coils from Italy—ThyssenKrupp Acciai Speciali Terni S.p.A (“TKAST”) dated February 3, 2003. The Department inadvertently applied the revised indirect selling expenses to all of TKAST's U.S. sales, not just to those U.S. sales through Ken-Mac. For the amended final results, we have applied the revised indirect selling expenses associated with U.S. sales through Ken-Mac to Ken-Mac sales only. See Analysis for the Amended Final Results of the Antidumping Duty Administrative Review of Stainless Steel Sheet and Strip in Coils from Italy—ThyssenKrupp Acciai Speciali Terni S.p.A (“TKAST”) (“Final Amended Analysis Memorandum”) from Stephen Bailey to Robert Bolling dated March 6, 2003.

Amended Final Results

We are amending the final results of the administrative review on SSSS from Italy covering the period July 1, 2000 through June 30, 2001, pursuant to section 751(h) of the Act and 19 CFR 351.224 of the Department's regulations. As a result, the recalculated final weighted-average margin for TKAST is as follows:

Exporter/manufacturer | Weighted average margin in the final (percent) | Revised weighted average margin (percent)
TKAST | 5.84 | 3.34

The cash deposit rate for TKAST of 3.34 percent ad valorem is effective on all shipments of the subject merchandise entered, or withdrawn from warehouse, for consumption on or after the date of publication of this notice, and will remain in effect until publication of the final results of the next administrative review.

Accordingly, the Department will determine, and the Customs Service will assess, antidumping duties on all entries of subject merchandise from TKAST during the period July 1, 2000 through June 30, 2001, in accordance with this amended final results.

This amended final results and notice are in accordance with sections 751(a)(1) of the Act (19 U.S.C. 1675(a)(1)) and 19 CFR 351.221.

Dated: March 4, 2003.
Faryar Shirzad,
Assistant Secretary for Import Administration.

[FR Doc. 03-5777 Filed 3-10-03; 8:45 am]

BILLING CODE 3510-DS-P